DEPARTMENT OF THE INTERIOR

National Park Service

[NPS-WASO-NAGPRA-NPS0036074; PPWOCRADN0-PCU00RP14.R50000]

Notice of Inventory Completion: California State University, Chico, Chico, CA

AGENCY: National Park Service, Interior.

ACTION: Notice.

SUMMARY: In accordance with the Native American Graves Protection and Repatriation Act (NAGPRA), the California State University Chico (CSU Chico) has completed an inventory of human remains and associated funerary objects and has determined that there is a cultural affiliation between the human remains and associated funerary objects and Indian Tribes or Native Hawaiian organizations in this notice. The human remains and associated funerary objects were removed from Tehama County, CA.

DATES: Repatriation of the human remains and associated funerary objects in this notice may occur on or after July 27, 2023.

ADDRESSES: Dawn Rewolinski, California State University, Chico, 400 W 1st Street, Chico, CA 95929, telephone (530) 898-3090, email drewolinski@csuchico.edu.

SUPPLEMENTARY INFORMATION: This notice is published as part of the National Park Service's administrative responsibilities under NAGPRA. The determinations in this notice are the sole responsibility of CSU Chico. The National Park Service is not responsible for the determinations in this notice. Additional information on the determinations in this notice, including the results of consultation, can be found in the inventory or related records held by CSU Chico.

Description

Accession 51

Human remains representing, at minimum, one individual were removed from site CA-TEH-750 in Tehama County, CA. In 1971, this site was recorded by M. Boyton after it was unknowingly trenched while testing farm equipment. Upon the discovery, the landowner collected cultural items and human remains from the site and donated them to CSU Chico. Around the same time, Chico State surveyed the site once again, during which no additional individuals were identified. The 79 associated funerary objects are one debitage, eight modified stones, eight modified shells, 61 glass beads, and one copper bell.

Accession 77

Human remains representing, at minimum, two individuals were removed from the Bambauer site (CA-TEH-247) in Tehama County, CA. In 1965, Keith Johnson recorded the site, and in 1965 and 1966, the University of California, Los Angeles conducted excavations there. In 1974, excavation at the site was resumed by a CSU Chico field class under the direction of Keith Johnson. Currently, CSU Chico houses the records from the 1965-66 excavations and the human remains and artifacts from the 1974 excavation. The 1,949 associated funerary objects are one modified shell, one soil sample, one float sample, 12 charcoal samples, 14 projectile points, 15 organics, 25 unmodified shells, 30 modified faunal elements, 91 modified stones, 94 faunal remains, 303 lots consisting of debitage, and 1,362 unmodified faunal elements.

Accession 83

Human remains representing, at minimum, 12 individuals were removed from the Rumiano Ranch site (CA-TEH-676) in Tehama County, CA. In 1974, the Tehama County Sherriff's Department collected human remains and associated funerary objects that had been exposed by farm equipment. Collections records state that the University of California, Davis donated this collection to CSU Chico in November of 1974, suggesting that the Sherriff's Department transferred control of the human remains and associated funerary objects to the University of California, Davis shortly after they were collected. The 10 associated funerary objects are three lots consisting of debitage, four modified stone tools, one projectile point, and two modified shells.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological, archeological, historical, and expert opinion.

Determinations

Pursuant to NAGPRA and its implementing regulations, and after consultation with the appropriate Indian Tribes and Native Hawaiian organizations, CSU Chico has determined that:

• The human remains described in this notice represent the physical remains of 15 individuals of Native American ancestry.

• The 2,038 objects described in this notice are reasonably believed to have been placed with or near individual human remains at the time of death or later as part of the death rite or ceremony.

• There is a relationship of shared group identity that can be reasonably traced between the human remains and associated funerary objects described in this notice and the Paskenta Band of Nomlaki Indians of California.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after July 27, 2023. If competing requests for repatriation are received, CSU Chico must determine the most appropriate requestor prior to repatriation. Requests for joint repatriation of the human remains and associated funerary objects are considered a single request and not competing requests. CSU Chico is responsible for sending a copy of this notice to the Indian Tribe identified in this notice.

Authority: Native American Graves Protection and Repatriation Act, 25 U.S.C. 3003, and the implementing regulations, 43 CFR 10.9, 10.10, and 10.14.

Dated: June 14, 2023.
Melanie O'Brien,
Manager, National NAGPRA Program.

[FR Doc. 2023-13641 Filed 6-26-23; 8:45 am]

BILLING CODE 4312-52-P